DEPARTMENT OF HEALTH AND HUMAN SERVICES

Centers for Medicare & Medicaid Services

42 CFR Part 414

[CMS-5533-CN]

Medicare Program; Alternative Payment Model (APM) Incentive Payment Advisory for Clinicians—Request for Current Billing Information for Qualifying APM Participants; Correction

AGENCY: Centers for Medicare & Medicaid Services (CMS), Health and Human Services (HHS).

ACTION: Payment advisory; correction.

SUMMARY: This document corrects a typographical error in the payment advisory that appeared in the September 17, 2020 Federal Register titled “Medicare Program; Alternative Payment Model (APM) Incentive Payment Advisory for Clinicians—Request for Current Billing Information for Qualifying APM Participants”.

DATES: This correction is effective October 14, 2020.

FOR FURTHER INFORMATION CONTACT: Tanya Dorm, (410) 786-2216.

SUPPLEMENTARY INFORMATION:

I. Background and Summary of Errors

In FR Doc. 2020-20488 of September 17, 2020 (85 FR 57980), there was a typographical error in the telephone number listed in the “FOR FURTHER INFORMATION CONTACT” section of the document. This document corrects that error.

II. Correction of Errors

In FR Doc. 2020-20488 of September 17, 2020 (85 FR 57980), make the following correction:

On page 57980, second column, second full paragraph, line 1, the telephone number “(410) 786-2206” is corrected to read “(410) 786-2216”.

The Administrator of the Centers for Medicare & Medicaid Services (CMS), Seema Verma, having reviewed and approved this document, authorizes Lynette Wilson, who is the Federal Register Liaison, to electronically sign this document for purposes of publication in the Federal Register.

Dated: October 8, 2020.
Lynette Wilson,
Federal Register Liaison, Centers for Medicare & Medicaid Services.

[FR Doc. 2020-22889 Filed 10-14-20; 8:45 am]

BILLING CODE 4120-01-P